PATENT AND TRADEMARK OFFICE

37 CFR Part 11

[Docket No.: 2002-C-005]

RIN 0651-AB55

Changes to Representation of Others Before the United States Patent and Trademark Office

AGENCY: United States Patent and Trademark Office, Commerce.

ACTION: Notice of extension of comment period.

SUMMARY: The United States Patent and Trademark Office (Office or USPTO) is extending the public comment period on proposed rules, USPTO Rules of Professional Conduct, published in the Federal Register on December 12, 2003 (68 FR 69442). This will allow additional time following publication on December 12, 2003, for public comments, including whether the Rules of Professional Conduct should include the revisions to the Model Rules as amended by the American Bar Association at the end of its February 2002 Midyear Meeting, also known as the Ethics 2000 revisions.

DATES: You must submit your comments by Monday, April 12, 2004. The Office may not necessarily consider or include in the Administrative Record for the proposed rule comments that the Office receives after the close of this extended comment period or comments delivered to an address other than those listed below.

ADDRESSES: Comments should be sent by electronic mail over the Internet addressed to: ethicsrules.comments@uspto.gov. Comments may also be submitted by mail addressed to: Mail Stop OED—Ethics Rules, United States Patent and Trademark Office, P.O. Box 1450, Alexandria, Virginia 22313-1450 or by facsimile to (703) 306-4134, marked to the attention of Harry I. Moatz. Although comments may be submitted by mail or facsimile, the Office prefers to receive comments via the Internet. If comments are submitted by mail, the Office would prefer that the comments be submitted on a DOS formatted 3½-inch disk accompanied by a paper copy. The comments will be available for public inspection at the Office of Enrollment and Discipline, located in Room 1103, Crystal Plaza 6, 2221 South Clark Street, Arlington, Virginia, and will be available through anonymous file transfer protocol (ftp) via the Internet (address: http://www.uspto.gov). Since comments will be made available for public inspection, information that is not desired to be made public should not be included in the comments.

FOR FURTHER INFORMATION CONTACT: Harry I. Moatz ((703) 305-9145), Director of Enrollment and Discipline (OED Director), directly by phone, or by facsimile to (703) 305-4136, marked to the attention of Mr. Moatz, or by mail addressed to: Mail Stop OED—Ethics Rules, U.S. Patent and Trademark Office, P.O. Box 1450, Alexandria, Virginia 22313-1450.

SUPPLEMENTARY INFORMATION: The USPTO published the proposed rules on December 12, 2003 (68 FR 69442) and provided a 60-day comment period that will end on February 10, 2004. We are extending the comment period on proposed rules 11.100 through 11.900 in subpart D until April 12, 2004, to allow the public additional time to provide us with their comments.

The Office seeks comments regarding proposed rules 11.100 through 11.900 in subpart D, in part, because the proposed rules do not contemplate inclusion of the Ethics 2000 revisions to the Model Rules of Professional Conduct. The Ethics 2000 revisions have not been widely adopted by state bars. Proposed rules 11.100 through 11.900, in large part, are based on the widely adopted Model Rules of Professional Conduct. The extended comment period provides the public an opportunity to address proposed rules 11.100 through 11.900, and whether the Ethics 2000 revisions should be included in the rules adopted by the Office.

Dated: January 22, 2004.
Jon W. Dudas,
Acting Under Secretary of Commerce for Intellectual Property and Acting Director of the United States Patent and Trademark Office.

[FR Doc. 04-1888 Filed 1-28-04; 8:45 am]

BILLING CODE 3510-16-P